DEPARTMENT OF COMMERCE

National Oceanic and Atmospheric Administration

15 CFR Part 922

Designation of Papahānaumokuākea National Marine Sanctuary

AGENCY: Office of National Marine Sanctuaries (ONMS), National Ocean Service, National Oceanic and Atmospheric Administration (NOAA), Department of Commerce.

ACTION: Notification of review and effective date of final rule.

SUMMARY: The National Oceanic and Atmospheric Administration (NOAA) is reviewing, for consistency with the Administration's policies and Executive Orders, the final rule that published on January 16, 2025 to designate Papahānaumokuākea National Marine Sanctuary (PNMS). The designation and regulations for PNMS became effective on March 3, 2025.

DATES: The final rule to designate PNMS, which was published at 90 FR 4856 on January 16, 2025, became effective March 3, 2025.

FOR FURTHER INFORMATION CONTACT: Eric Roberts, Papahānaumokuākea National Marine Sanctaury Superintendent, at Eric.Roberts@noaa.gov or 808-294-7470.

SUPPLEMENTARY INFORMATION: Pursuant to Section 304(b) of the National Marine Sanctuaries Act (NMSA) (16 U.S.C. 1434(b)(1)), a sanctuary designation and its regulations become effective following the close of a review period of 45 days of continuous session of Congress beginning on the date of publication of the final rule. For PNMS, the final rule published on January 16, 2025, and by operation of NMSA Section 304(b), the designation and regulations became effective as of March 3, 2025.

NOAA is reviewing the final rule for this designation for consistency with the Administration's policies and Executive Orders, including Executive Order 14219, Ensuring Lawful Governance and Implementing the President's “Department of Government Efficiency” Deregulatory Initiative.

List of Subjects in 15 CFR Part 922

Administrative practice and procedure; Coastal zone; Cultural resources; Environmental; Protection; Fishing; Historic preservation; Marine protected areas; Marine resources; Natural resources; National marine sanctuaries; Penalties; Recreation and recreation areas; Reporting and recordkeeping requirements; Shipwrecks; Wildlife.

John Armor,
Director, Office of National Marine Sanctuaries, National Ocean Service, National Oceanic and Atmospheric Administration.

[FR Doc. 2025-04949 Filed 3-21-25; 8:45 am]

BILLING CODE 3510-NK-P